DEPARTMENT OF THE TREASURY

Comptroller of the Currency

[Docket ID OCC-2013-0014]

FEDERAL RESERVE SYSTEM

[Docket No. OP-1465]

FEDERAL DEPOSIT INSURANCE CORPORATION

NATIONAL CREDIT UNION ADMINISTRATION

BUREAU OF CONSUMER FINANCIAL PROTECTION

[Docket No. CFPB-2013-0029]

SECURITIES AND EXCHANGE COMMISSION

[Release No. 34-71134; File No. S7-08-13]

Extension of Comment Period for Proposed Interagency Policy Statement Establishing Joint Standards for Assessing the Diversity Policies and Practices of Entities Regulated by the Agencies

AGENCIES: Office of the Comptroller of the Currency (“OCC”); Board of Governors of the Federal Reserve System (“Board”); Federal Deposit Insurance Corporation (“FDIC”); National Credit Union Administration (“NCUA”); Bureau of Consumer Financial Protection (“CFPB”); and Securities and Exchange Commission (“SEC”).

ACTION: Proposed interagency policy statement; extension of comment period.

SUMMARY: On October 25, 2013, the OCC, Board, FDIC, NCUA, CFPB, and SEC (collectively, the “Agencies”) published in the Federal Register a joint notice of a proposed interagency policy statement establishing standards for assessing the diversity policies and practices of the entities they regulate.¹ To allow the public more time to consider the proposed assessment standards, the Agencies have determined that an extension of the comment period to February 7, 2014, is appropriate. This action will allow interested persons additional time to analyze the interagency policy statement and prepare their comments.

¹ 78 FR 64052 (October 25, 2013).

DATES: Comments must be received on or before February 7, 2014.

ADDRESSES: You may submit comments by any of the methods identified in the proposed interagency policy statement. To avoid duplication, the Agencies request that commenters not submit the same comment to more than one Agency. The Agencies will share comments with each other, as appropriate.

FOR FURTHER INFORMATION CONTACT:

OCC: Joyce Cofield, Executive Director, Office of Minority and Women Inclusion, at (202) 649-6460 or Karen McSweeney, Counsel, Law Department, at (202) 649-6295, Office of the Comptroller of the Currency, 400 7th Street SW., Washington, DC 20219.

BOARD: Sheila Clark, Director, Office of Diversity and Inclusion, at (202) 452-2883; or Katherine Wheatley, Associate General Counsel, Legal Division, at (202) 452-3779.

FDIC: Melodee Brooks, Senior Deputy Director, Office of Minority and Women Inclusion, (703) 562-6090; Henry R.F. Griffin, Assistant General Counsel, (703) 562-6404; or Michelle M. Borzillo, Senior Counsel, (703) 562-6083; or Robert Lee, Counsel, (703) 562-2020, Legal Division, Federal Deposit Insurance Corporation, 550 17th Street NW., Washington, DC 20429-0002.

NCUA: Tawana James, Director, Office of Minority and Women Inclusion, at (703) 518-1650, or Cynthia Vaughn, Diversity Outreach Program Analyst, Office of Minority and Women Inclusion, at (703) 518-1653, or Steven W. Widerman, Senior Staff Attorney, Office of General Counsel, at (703) 518-6540.

CFPB: Stuart Ishimaru, Director, Office of Minority and Women Inclusion, at (202) 435-9012, or To-Quyen Truong, Deputy General Counsel, Legal Division at (202) 435-7434, Bureau of Consumer Financial Protection, 1700 G Street NW., Washington, DC 20552.

SEC: Pamela A. Gibbs, Director, Office of Minority and Women Inclusion, (202) 551-6046, or Tracey L. McNeil, Counsel, Office of Minority and Women Inclusion, (202) 551-3392, Securities and Exchange Commission, 100 F Street NE., Washington, DC 20549.

SUPPLEMENTARY INFORMATION: On October 25, 2013, the proposed interagency policy statement was published in the Federal Register, 78 FR 64052 (October 25, 2013). The proposed interagency policy statement would establish joint standards for assessing the diversity policies and practices of entities regulated by the Agencies. The Agencies sought comment on all aspects of the proposed policy statement and requested that commenters respond to numerous questions. The proposed policy statement stated that the public comment period would close after 60 days, on December 24, 2013.

The Agencies have received requests from the public for an extension of the comment period. The Agencies believe that the additional time will facilitate public comment on the policy statement and the questions posed by the Agencies. Therefore, the Agencies are extending the comment period for the proposed interagency policy statement by 45 days, from December 24, 2013 to February 7, 2014.

Thomas J. Curry,
Comptroller of the Currency.
By order of the Board of Governors of the Federal Reserve System, acting through the Secretary under delegated authority, December 5, 2013.
Robert deV. Frierson,
Secretary of the Board.
Valerie J. Best,
Assistant Executive Secretary.
By the National Credit Union Administration Board on December 16, 2013.
Gerard Poliquin,
Secretary of the Board.
Richard Cordray,
Director, Bureau of Consumer Financial Protection.
By the Securities and Exchange Commission.
Dated: December 19, 2013.
Kevin M. O'Neill,
Deputy Secretary.

[FR Doc. 2013-30629 Filed 12-23-13; 8:45 am]

BILLING CODE 4810-33-P; 6210-01-P; 6741-01-P; 7590-01-P; 4810-AM-P; 8011-01-P